ENVIRONMENTAL PROTECTION AGENCY

[FRL-6985-2]

Proposed CERCLA Administrative Cost Recovery Settlement; Frost Manufacturing Company Site

AGENCY: Environmental Protection Agency.

ACTION: Notice; request for public comment.

SUMMARY: In accordance with section 122(i) of the Comprehensive Environmental Response, Compensation, and Liability Act, as amended (“CERCLA”), 42 U.S.C. 9622(i), notice is hereby given of a proposed administrative settlement for recovery of past response costs concerning the Frost Manufacturing Company site in Kenosha, Wisconsin with the following settling parties: S.R. Smith, LLC, and Household Commercial Financial Services, Inc. The settlement requires the settling parties to pay $100,00.00 to the Hazardous Substance Superfund. The settlement includes a covenant not to sue the settling parties pursuant to section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the United States Environmental Protection Agency, Region 5 Records Center, seventh floor, 77 West Jackson Boulevard, Chicago, Illinois 60604.

DATES: Comments must be submitted on or before June 25, 2001.

ADDRESSES: The proposed settlement is available for public inspection at the United States Environmental Protection Agency, Region 5 Records Center, seventh floor, 77 West Jackson Boulevard, Chicago, Illinois 60604. A copy of the proposed settlement may be obtained from Carol Ropski, U.S. EPA Region 5, Mail Code SE-5J, 77 West Jackson Boulevard, Chicago, Illinois 60604, (312) 353-7647. Comments should reference the Frost Manufacturing Company Site, Kenosha, Wisconsin and EPA Docket No. V-W-01-C-639 and should be addressed to Ms. Rospki at the address shown above.

FOR FURTHER INFORMATION CONTACT: Carol Ropski, U.S. EPA Region 5, Mail Code SE-5J, 77 West Jackson Boulevard, Chicago, Illinois 60604, (312) 353-7647.

Dated: May 15, 2001
William E. Muno,
Director, Superfund Division, Region 5.

[FR Doc. 01-13275 Filed 5-24-01; 8:45 am]

BILLING CODE 6560-50-P